DEPARTMENT OF THE INTERIOR

National Park Service

[NPS-WASO-NAGPRA-NPS0034372; PPWOCRADN0-PCU00RP14.R50000]

Notice of Inventory Completion: Grand Rapids Public Museum, Grand Rapids, MI

AGENCY: National Park Service, Interior.

ACTION: Notice.

SUMMARY: The Grand Rapids Public Museum has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Grand Rapids Public Museum. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Grand Rapids Public Museum at the address in this notice by September 19, 2022.

FOR FURTHER INFORMATION CONTACT: Alex Forist, Chief Curator, Grand Rapids Public Museum, 272 Pearl Street NW, Grand Rapids, MI 49504, telephone (616) 929-1809, email aforist@grpm.org.

SUPPLEMENTARY INFORMATION: Notice is here given in accordance with the Native American Graves Protection and Repatriation Act (NAGPRA), 25 U.S.C. 3003, of the completion of an inventory of human remains and associated funerary objects under the control of the Grand Rapids Public Museum, Grand Rapids, MI. The human remains and associated funerary objects were removed from Norton Mounds (20KT01) in Kent County, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Grand Rapids Public Museum professional staff in consultation with representatives of representatives of the Bay Mills Indian Community, Michigan; Citizen Potawatomi Nation, Oklahoma; Forest County Potawatomi Community, Wisconsin; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Potawatomi Indians of Michigan; Nottawaseppi Huron Band of the Potawatomi, Michigan (previously listed as Huron Potawatomi, Inc.); Ottawa Tribe of Oklahoma; Pokagon Band of Potawatomi Indians, Michigan and Indiana; Prairie Band Potawatomi Nation (previously listed as Prairie Band of Potawatomi Nation, Kansas); Red Lake Band of Chippewa Indians, Minnesota; Sac & Fox Nation, Oklahoma; Saginaw Chippewa Indian Tribe of Michigan; Sault Ste. Marie Tribe of Chippewa Indians, Michigan and the following non-federally recognized Indian groups: the Burt Lake Band of Ottawa & Chippewa and the Grand River Bands of Ottawa Indians (hereafter referred to as “The Consulted Indian Tribes and Groups”).

History and Description of the Remains

During 1962-1964, human remains representing, at minimum, eight individuals were removed from Norton Mounds (20KT01) in Kent County, MI. This site was excavated by staff from the University of Michigan in cooperation with the Grand Rapids Public Museum (GRPM). The human remains consist of eight fragments of human bone that include: two rib end fragments, three fragments of shaft (these were not accompanied with any context), one fragment of a distal end of the sacrum, and one inferior border fragment. One human manubrium fragment was found in a mix of mammal bones and fill. No known individuals were identified. The 35 lots of associated funerary objects include one lot of ceramic sherds with seed, one lot of lithic debitage, one lot of turtle shell and bone, one lot of wood fragments, one lot of ash sample, one lot of faunal bone, one lot of fish bones, one lot of mammal bones, one lot of sturgeon bone, one lot of woodchuck bones, one lot of deer bones, one lot of turkey bone, one lot of catfish bones, one lot of silt sample, one lot of soil sample, one lot of mussel shells, one lot of snail shell, one lot of walleye bone, one lot of skunk bones, one lot of charcoal, one lot of pebbles, one lot of rocks, one lot of chipmunk mandibles, one lot of weasel bones, one lot of raccoon bones, one lot of blade, one lot of shell, one lot of flake, one lot of bird bones, one lot of copper beads, one lot of textile, one lot of shell, one lot of celt, one lot of bark fragments in ash and soil, and one lot of lithic flake.

Norton Mounds is a Middle Woodland burial location that, based on radiocarbon dates, diagnostic ceramics, and lithics, dates between 100 B.C. and A.D. 200. The collection from this site is extensively documented in a report by Griffin, Flanders and Titterington (1970).

Determinations Made by the Grand Rapids Public Museum

Officials of the Grand Rapids Public Museum have determined that:

• Pursuant to 25 U.S.C. 3001(9), the human remains described in this notice are Native American based on the Middle Woodland culture at Norton Mounds.

• Pursuant to 25 U.S.C. 3001(9), the human remains described in this notice represent the physical remains of eight individuals of Native American ancestry.

• Pursuant to 25 U.S.C. 3001(3)(A), the 35 lots of objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Bay Mills Indian Community, Michigan; Citizen Potawatomi Nation, Oklahoma; Forest County Potawatomi Community, Wisconsin; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Potawatomi Indians of Michigan; Nottawaseppi Huron Band of the Potawatomi, Michigan (previously listed as Huron Potawatomi, Inc.); Ottawa Tribe of Oklahoma; Pokagon Band of Potawatomi Indians, Michigan and Indiana; Prairie Band Potawatomi Nation (previously listed as Prairie Band of Potawatomi Nation, Kansas); Red Lake Band of Chippewa Indians, Minnesota; Sac & Fox Nation, Oklahoma; Saginaw Chippewa Indian Tribe of Michigan; Sault Ste. Marie Tribe of Chippewa Indians, Michigan (hereafter referred to as “The Tribes”).

• Treaties, Acts of Congress, or Executive Orders, indicate that the land from which the Native American human remains and associated funerary objects were removed is the aboriginal land of The Tribes.

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Alex Forist, Chief Curator, Grand Rapids Public Museum, 272 Pearl Street NW, Grand Rapids, MI 49504, telephone (616) 929-1809, email aforist@grpm.org, by September 19, 2022. After that date, if no additional requestors have come forward, transfer of control of the human remains and associated funerary objects to The Tribes may proceed. If joined to a request from one or more of The Tribes, the following two non-federally recognized Indian groups may receive transfer of control of the human remains and associated funerary objects: the Burt Lake Band of Ottawa & Chippewa and the Grand River Bands of Ottawa Indians.

The Grand Rapids Public Museum is responsible for notifying The Consulted Indian Tribes and Groups that this notice has been published.

Dated: August 10, 2022.
Melanie O'Brien,
Manager, National NAGPRA Program.

[FR Doc. 2022-17769 Filed 8-17-22; 8:45 am]

BILLING CODE 4312-52-P